DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final. The actions relate to a proposed highway project, I-110 High-Occupancy Toll Lane Flyover Project 07-LA-110-PM 20.10/20.92 in the City and County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before 150 days after publication in the Federal Register for actions relate to a proposed highway project, I-110 High-Occupancy Toll Lane Flyover Project 07-LA-110-PM 20.10/20.92 in the City and County of Los Angeles, State of California. If the Federal law that authorizes judicial review of a claim provides a time period of less than 150 days for filing such claim, then that shorter time period still applies.

FOR FURTHER INFORMATION CONTACT: For Caltrans: Jason Roach Senior Environmental Planner Chief, Environmental Branch Caltrans, District 7, 100 South Main Street, MS 16A, Los Angeles, CA 90012, Office Hours: 9 a.m.-4:00 p.m., Office Phone: (213) 897-0357, Email: jason.roach@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: Caltrans, in cooperation with Metro, proposes to construct an elevated off-ramp structure on the NB I-110 between 30th St. and Figueroa St. Overcrossing in the City of Los Angeles. The proposed structure would bypass the bottleneck intersections at Flower St. and Adams Blvd. and NB I-110 HOT off-ramp to Adams Blvd., connecting the HOT lane traffic to Figueroa St. The structure would be approximately 1400 feet in length with two standard lanes (twelve feet in width) and a four-foot left shoulder as well as eight-foot right shoulder will be provided. All new structures will be within State right of way; minimal right of way acquisition will be required for maintenance, ingress/egress, access control, and setback purposes as well as emergency services access. The actions by the Federal agencies, and the laws under which such actions were taken, are described in the Final Finding of No Significant Impact (FONSI) for the project, approved on April 24, 2018. The Caltrans FONSI can accessed at the following link http://www.dot.ca.gov/dist07/resources/envdocs/, or viewed at public libraries in the project area.

This notice applies to all Federal agency decisions as of the issuance date of this notice and all laws under which such actions were taken, including but not limited to:

(1) Council on Environmental Quality regulations;

(2) National Environmental Policy Act (NEPA);

(3) Moving Ahead for Progress in the 21st Century Act (MAP-21);

(4) Department of Transportation Act of 1966;

(5) Federal Aid Highway Act of 1970;

(6) Clean Air Act Amendments of 1990;

(7) Noise Control Act of 1970;

(8) 23 CFR part 772 FHWA Noise Standards, Policies and Procedures;

(9) Department of Transportation Act of 1966, Section 4(f);

(10) Clean Water Act of 1977 and 1987;

(11) Endangered Species Act of 1973;

(12) Migratory Bird Treaty Act;

(13) National Historic Preservation Act of 1966, as amended;

(14) Historic Sites Act of 1935; and,

(15) Executive Order 13112, Invasive Species.

(16) Title VI of the Civil Rights Act of 1964

Catalog of Federal Domestic Assistance Program Number 20.205, Highway Planning and Construction. The regulations implementing Executive Order 12372 regarding intergovernmental consultation on Federal programs and activities apply to this program.

Authority: 23 U.S.C. 139(l)(1).

Matt Schmitz,
Director, Project Delivery, FHWA—CA Division.

[FR Doc. 2018-12235 Filed 6-6-18; 8:45 am]

BILLING CODE 4910-RY-P